DEPARTMENT OF EDUCATION

[Docket No.: ED-2018-ICCD-0005]

Agency Information Collection Activities; Submission to the Office of Management and Budget for Review and Approval; Comment Request; Impact Study of Federally-Funded Magnet Schools

AGENCY: Institute of Education Sciences (IES), Department of Education (ED).

ACTION: Notice.

SUMMARY: In accordance with the Paperwork Reduction Act of 1995, ED is proposing a new information collection.

DATES: Interested persons are invited to submit comments on or before June 4, 2018.

ADDRESSES: To access and review all the documents related to the information collection listed in this notice, please use http://www.regulations.gov by searching the Docket ID number ED-2018-ICCD-0005. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 216-32, Washington, DC 20202-4537.

FOR FURTHER INFORMATION CONTACT: For specific questions related to collection activities, please contact Lauren Angelo, 202-245-7474.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Study of Federally-Funded Magnet Schools.

OMB Control Number: 1850-NEW.

Type of Review: A new information collection.

Respondents/Affected Public: Individuals or Households.

Total Estimated Number of Annual Responses: 101.

Total Estimated Number of Annual Burden Hours: 53.

Abstract: This Office of Management and Budget (OMB) package requests clearance for data collection activities to support a rigorous Impact Study of Federally-Funded Magnet Schools. The Institute of Education Sciences (IES) at the U.S. Department of Education (ED) has contracted with Mathematica Policy Research and its subcontractor, Social Policy Research Associates (SPR), to conduct this evaluation (ED-IES-17-C-0066). The evaluation includes an initial feasibility assessment, to determine whether an impact study can be conducted appropriately. First, the study team will interview fiscal year (FY) 2016 and 2017 Magnet Schools Assistance Program (MSAP) grantee districts and schools to gather detailed information on student recruitment and admissions policies and practices, paying particular attention to the use of randomized lotteries for student admissions. The feasibility phase will result in a brief describing how MSAP-funded schools recruit and select students for admission, a topic of interest to the program office. Second, if a sufficient number of students are being admitted to these schools through lotteries, the impact study will collect survey data from principals and district administrative records on admissions lotteries and student progress. The study would use these data to estimate the impacts of magnet schools on student achievement and diversity and to describe whether particular features of magnet schools are associated with greater success.

Dated: May 1, 2018.
Stephanie Valentine,
Acting Director, Information Collection Clearance Division, Office of the Chief Privacy Officer, Office of Management.

[FR Doc. 2018-09477 Filed 5-3-18; 8:45 am]

BILLING CODE 4000-01-P